DEPARTMENT OF COMMERCE

International Trade Administration

(A-533-820)

Certain Hot-Rolled Carbon Steel Flat Products from India: Notice of Extension of Time Limits for Preliminary Results of Antidumping Duty Administrative Review

AGENCY: Import Administration, International Trade Administration, Department of Commerce.

EFFECTIVE DATE: October 28, 2008.

FOR FURTHER INFORMATION CONTACT: Joy Zhang at (202) 482-1168 or James Terpstra at (202) 482-3965, AD/CVD Operations, Office 3, Import Administration, International Trade Administration, U.S. Department of Commerce, 14th Street and Constitution Avenue, NW, Washington, DC 20230.

SUPPLEMENTARY INFORMATION:

Background

On January 28, 2008, the Department of Commerce (“the Department”) published a notice of initiation of antidumping duty administrative review of certain hot-rolled carbon steel flat products from India for the period December 1, 2006, through November 30, 2007. See Initiation of Antidumping and Countervailing Duty Administrative Reviews and Request for Revocation in Part, 73 FR 4829 (January 28, 2008). On August 20, 2008, the Department extended the time period for issuing the preliminary results of review by 60 days. See Certain Hot-Rolled Carbon Steel Flat Products from India: Notice of Intent to Rescind Antidumping Duty Administrative Review in Part and Notice of Extension of Time Limits for Preliminary Results of Antidumping Administrative Review, 73 FR 49169 (August 20, 2008). The preliminary results are currently due no later than October 31, 2008.

Extension of Time Limit of Preliminary Results

Section 751(a)(3)(A) of the Tariff Act of 1930, as amended (“the Act”), requires the Department to issue preliminary results within 245 days after the last day of the anniversary month of an order or finding for which a review is requested. Section 751(a)(3)(A) of the Act further states that if it is not practicable to complete the review within the time period specified, the administering authority may extend the 245-day period to issue its preliminary results to a maximum of up to 365 days after the last day of the anniversary month.

We determine that it is not practicable to complete this administrative review within the time limits mandated by section 751(a)(3)(A) of the Act because we require additional time to analyze the sales and cost data submitted by Essar and issue and review responses to supplemental questionnaires. Because it is not practicable to complete this review by October 31, 2008, we are extending the time period for issuing the preliminary results by an additional 42 days. The preliminary results are now due no later than December 12, 2008, in accordance with section 751(a)(3)(A) of the Act. The final results continue to be due 120 days after publication of the preliminary results.

This notice is issued and published in accordance with section 751(a)(3)(A) and 777(i) of the Act and 19 CFR 351.213(h)(2).

Dated: October 21, 2008.
Stephen J. Claeys,
Deputy Assistant Secretary for Import Administration.

[FR Doc. E8-25727 Filed 10-27-08; 8:45 am]

BILLING CODE: 3510-DS-S